FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than December 5, 2011.

A. Federal Reserve Bank of Cleveland (Nadine Wallman, Vice President) 1455 East Sixth Street, Cleveland, Ohio 44101-2566:

1. S&T Bancorp Inc., Indiana, Pennsylvania; to acquire and thereby merge with Mainline Bancorp Inc., Ebensburg, Pennsylvania, and indirectly acquire Mainline National Bank, Portage, Pennsylvania.

B. Federal Reserve Bank of Atlanta (Chapelle Davis, Assistant Vice President) 1000 Peachtree Street NE., Atlanta, Georgia 30309:

1. Independent Bancshares, Inc. Employee Stock Ownership Plan, Red Bay, Alabama; to acquire an additional 19.30 percent, for a total of 47 percent, of the voting shares of Independent Bancshares, Inc., and thereby indirectly acquire voting shares of Community Spirit Bank, both in Red Bay, Alabama, and Spirit Bancshares, Inc., and Spirit Bank, both in Belmont, Mississippi.

C. Federal Reserve Bank of San Francisco (Kenneth Binning, Vice President, Applications and Enforcement) 101 Market Street, San Francisco, California 94105-1579:

1. Carpenter Fund Manager GP, LLC; Carpenter Fund Management Company, LLC; Carpenter Community BancFund, L.P.; Carpenter Community BanFund—A, L.P.; Carpenter Community BancFund—CA, L.P.; SCJ, Inc.; and CCFW, Inc., all in Irvine, California, to acquire more than 24.9 percent of the voting securities of Pacific Mercantile Bancorp, and thereby indirectly acquire voting shares of Pacific Mercantile Bank, both in Costa Mesa, California.

Board of Governors of the Federal Reserve System, November 4, 2011.
Robert deV. Frierson,
Deputy Secretary of the Board.

[FR Doc. 2011-29039 Filed 11-8-11; 8:45 am]

BILLING CODE 6210-01-P